DEPARTMENT OF THE TREASURY

Alcohol and Tobacco Tax and Trade Bureau

27 CFR Part 9

[Docket No. TTB-2014-0005; Notice No. 143]

RIN 1513-AC07

Proposed Expansion of the Fair Play Viticultural Area

AGENCY: Alcohol and Tobacco Tax and Trade Bureau, Treasury.

ACTION: Notice of Proposed Rulemaking.

SUMMARY: The Alcohol and Tobacco Tax and Trade Bureau (TTB) proposes to expand the approximately 33-square mile “Fair Play” viticultural area in El Dorado County, California, by approximately 1,200 acres (approximately 2 square miles). The established Fair Play viticultural area and the proposed expansion area are located entirely within the larger El Dorado and Sierra Foothills viticultural areas. TTB designates viticultural areas to allow vintners to better describe the origin of their wines and to allow consumers to better identify wines they may purchase. TTB invites comments on this proposed addition to its regulations.

DATES: Comments must be received by August 18, 2014.

ADDRESSES: Please send your comments on this notice to one of the following addresses:

• Internet: http://www.regulations.gov (via the online comment form for this notice as posted within Docket No. TTB-2014-0005 at “Regulations.gov,” the Federal e-rulemaking portal);

• U.S. Mail: Director, Regulations and Rulings Division, Alcohol and Tobacco Tax and Trade Bureau, 1310 G Street NW., Box 12, Washington, DC 20005; or

• Hand Delivery/Courier In Lieu of Mail: Alcohol and Tobacco Tax and Trade Bureau, 1310 G Street NW., Suite 200-E, Washington, DC 20005.

See the Public Participation section of this notice for specific instructions and requirements for submitting comments, and for information on how to request a public hearing or view or obtain copies of the petition and supporting materials.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated December 10, 2013, to the TTB Administrator to perform the functions and duties in the administration and enforcement of this law.

Part 4 of the TTB regulations (27 CFR part 4) authorizes the establishment of definitive viticultural areas and the use of their names as appellations of origin on wine labels and in wine advertisements. Part 9 of the TTB regulations (27 CFR part 9) sets forth standards for the preparation and submission of petitions for the establishment or modification of American viticultural areas (AVAs) and lists the approved American viticultural areas.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to its geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing the establishment of an AVA and provides that any interested party may petition TTB to establish a grape-growing region as an AVA. Petitioners may use the same procedures to request changes involving existing AVAs. Section 9.12 of the TTB regulations (27 CFR 9.12) prescribes standards for petitions for modifying established AVAs. Petitions to expand an established AVA must include the following:

• Evidence that the region within the proposed expansion area boundary is nationally or locally known by the name of the established AVA;

• An explanation of the basis for defining the boundary of the proposed expansion area;

• A narrative description of the features of the proposed expansion area affecting viticulture, such as climate, geology, soils, physical features, and elevation, that make the proposed expansion area similar to the established AVA and distinguish it from adjacent areas outside the established AVA boundary;

• The appropriate United States Geological Survey (USGS) map(s) showing the location of the proposed expansion area, with the boundary of the proposed expansion area clearly drawn thereon; and

• A detailed narrative description of the proposed expansion area boundary based on USGS map markings.

Petition To Expand the Fair Play AVA

TTB received a petition from Randy and Tina Rossi, owners of Saluti Cellars winery and vineyard, proposing to expand the established “Fair Play” AVA in northern California. The Fair Play AVA (27 CFR 9.168) was established by T.D. ATF-440, which was published in the Federal Register on February 26, 2001 (66 FR 11539). The Fair Play AVA covers approximately 33 square miles in southern El Dorado County, California, around the small, unincorporated community of Fair Play, and the AVA contains approximately 250 acres of commercially-producing vineyards.

The proposed expansion area is adjacent to the northeast corner of the existing Fair Play AVA boundary and covers approximately 1,200 acres (approximately 2 square miles). One commercial vineyard is located within the proposed expansion area. The petition included a letter from the president of the Fair Play Winery Association in support of the proposed expansion. According to the petition, the soils, climate, and topography of the proposed expansion area are similar to those of the established AVA. Unless otherwise noted, all information and data pertaining to the proposed expansion area contained in this document come from the petition and its supporting exhibits.

The Fair Play AVA and the proposed expansion area are located within the El Dorado AVA (27 CFR 9.61), which, in turn, is located within the larger, multicounty Sierra Foothills AVA (27 CFR 9.120). The Fair Play AVA and the proposed expansion area do not overlap any other established or proposed AVAs.

Name Evidence

The petition provides evidence that the proposed expansion area is associated with the established Fair Play AVA. Saluti Cellars, the vineyard and winery owned by the petitioners, is located within the proposed expansion area and has a Somerset, California mailing address. As noted in T.D. ATF-440, Somerset is one of three towns within the established Fair Play AVA, along with Fair Play and Mount Aukum. Also, Saluti Cellars uses the Zip code 95684. As noted in T.D. ATF-440, all three of these communities use the Zip Code 95684. Finally, the proposed expansion area is included in the region served by the Three Forks Grange, which serves the communities within and adjacent to the Fair Play AVA, including the towns of Fair Play, Somerset, and Mount Aukum. TTB notes that the Three Forks Grange is a local unit of the California State Grange, an agricultural fraternity and civic organization that supports rural communities.

Boundary Evidence

The current northeastern boundary of the Fair Play AVA is shaped roughly like a capital letter “L.” The current northeastern boundary begins on the USGS Camino quadrangle map at the intersection of the 2,000-foot elevation contour and the shared boundary line of sections 9 and 10. From that point, the current northeastern boundary proceeds due south along sections lines to the Middle Fork of the Cosumnes River on the Aukum quadrangle map; this segment forms the upright portion of the “L” shape. The current northeastern boundary then follows the river easterly (upstream) to the range line between R12E and R13E on the Omo Ranch map; this segment of the boundary forms the bottom of the “L” shape. The northeastern boundary then follows the R12E/R13E range line due south approximately 1.8 miles to the intersection of the range line and Omo Ranch Road.

The proposed expansion area is located northeast of the established Fair Play AVA boundary, between the 2,000-foot elevation line and the Middle Fork of the Cosumnes River. The proposed boundary would replace the portion of the current northeastern Fair Play AVA boundary located between the intersection of the 2,000-foot elevation line with the shared boundary of sections 9 and 10 (T9N/R12E) and the intersection of the Middle Fork of the Cosumnes River with the R12E/R13E range line. Instead of following the shared section boundary lines south from the 2,000-foot elevation contour to the Middle Fork of the Cosumnes River and then continuing east along the river to the R12E/R13E range line, the proposed boundary would continue east along the 2,000-foot elevation contour to Jackass Canyon Creek, then continue southeasterly along the creek, crossing the southwestern corner of the USGS Sly Park quadrangle map, to Grizzly Flat Road, and would then follow the road east to the R12E/R13E range line. From the intersection of the road with the range line, the proposed boundary would then follow the range line due south to Omo Ranch Road, as the current boundary does.

To the northeast of the proposed expansion area, outside both the proposed expansion area and the established Fair Play AVA, are the El Dorado National Forest and the region known as Grizzly Flats, which both have higher elevations and steeper slopes than the proposed expansion area and the established AVA. Additionally, the El Dorado National Forest was not included in either the established AVA or the proposed expansion area because its status as a National Forest makes the region unavailable for commercial viticulture. To the immediate north of both the proposed expansion area and the established Fair Play AVA is a canyon formed by the North Fork of the Cosumnes River. According to T.D. ATF-440, the steep sides of the canyon are unsuitable for viticulture, and the bottom land along the river is several hundred feet lower than the lowest elevations within either the proposed expansion area or the established AVA.

Distinguishing Features

According to the petition, the proposed expansion area contains the same soils, topography, and climate that distinguish the established Fair Play AVA from the surrounding region. Because the established Fair Play AVA is to the immediate west and south of the proposed expansion area, the distinguishing features of the proposed expansion area will be contrasted only with the regions to the north and east.

Soils

The soils of the proposed expansion area are primarily of the Holland, Musick, and Shaver series. According to a United States Department of Agriculture (USDA) custom soil resource report included with the petition, these three series cover 70% of the proposed expansion area. The soils are derived from granite and consist of sandy loams and coarse sandy loams with average rooting depths between 40 and 60 inches, allowing roots to penetrate far into the soil to absorb nutrients and water. Soils of these three series are also moderately-drained to well-drained, which discourages mildew and rot.

T.D. ATF-440 describes the soils of the established Fair Play AVA as being of the Holland, Musick, and Shaver series, as well. T.D. ATF-440 states that the soils to the north and east of the Fair Play AVA are primarily of the Chawanakee and Chaix series, which are shallow, poorly drained, non-granitic soils of volcanic origin. T.D. ATF-440 also states that the Fair Play AVA boundaries were specifically drawn to exclude shallow, poorly drained, non-granitic soils, including volcanic soils. However, more recent evidence in the form of the USDA custom soil resource report provided in the petition shows that the Holland, Musick, and Shaver soils of the Fair Play AVA extend farther to the northeast than previously thought, including into the proposed expansion area. The soil report also confirms that soils of the Chawanakee and Chaix series are present north and east of both the proposed expansion area and the Fair Play AVA, and that less than 1 percent of the soils of the proposed expansion area are of these two series.

Topography

The proposed expansion area consists of steep hillsides and ridge tops with elevations between 2,000 and 3,000 feet, according to the USGS maps included in the petition. The petition states that the steep elevations minimize the risk of frost in the vineyards of the proposed expansion area because cold air drains off the slopes and does not settle in the vineyards.

The topography of the established Fair Play AVA is similar to that of the proposed expansion area. T.D. ATF-440 describes the established AVA as being composed of rolling hillsides and ridge tops, with elevations between 2,000 and 3,000 feet. By contrast, the region to the east of both the established AVA and the proposed expansion area is higher and steeper, with elevations of over 3,000 feet and slopes that are too steep for commercial viticulture. The region to the north of both the established AVA and the proposed expansion area also has steep slopes that are less suitable for commercial viticulture.

Climate

According to the USDA Soil Survey for El Dorado County (the “Soil Survey”), cited in both the current expansion petition and T.D. ATF-440, the climate within the Fair Play region of the Sierra Foothills changes with elevation. Rainfall, for example, generally increases along with the elevation. The length of the growing season in the region, however, decreases as elevation increases. T.D. ATF-440 notes that the Soil Survey estimates that the elevations within the Fair Play AVA generally receive between 35 and 40 inches of rain annually and have a growing season of between 230 and 250 days. The current petition states that because the proposed expansion area has elevations similar to those of the established AVA, one could reasonably assume the proposed expansion area also receives between 35 and 40 inches of rain per year and has a growing season of between 230 and 250 days, based on the estimates included for those elevations in the Soil Survey. The rainfall amounts are enough to provide adequate water for vines, but not so much as to promote mildew or rot. The length of the growing season affects the ripening patterns of grapes and influences the varieties grown.

By contrast, the region to the east of both the proposed expansion area and the Fair Play AVA has higher elevations. The petition states that based on the USDA Soil Survey description of rainfall and growing season estimates for the county, the region to the east of the proposed expansion area and the Fair Play AVA would be expected to have higher rainfall amounts and a shorter growing season than both the Fair Play AVA and the proposed expansion area.

TTB notes that it generally prefers for AVA petitions to contain actual climate data gathered from weather stations located within the proposed AVA or proposed expansion area and the surrounding regions, rather than estimates of climate data. However, the USDA Soil Survey for El Dorado County is an official U.S. Government publication and, therefore, is considered to be a reliable source for general climate information. Additionally, the climate estimates in the Soil Survey are based on elevation, and the elevations of both the established AVA and the proposed expansion area can be readily verified using the USGS maps provided in the petition. Finally, the original petition to establish the Fair Play AVA used the USDA Soil Survey for El Dorado County as the basis for its discussion of the climate of the region. Therefore, in this instance, TTB is accepting the climate estimates contained in the expansion petition as evidence that the climate of the proposed expansion area is similar to that of the established AVA, instead of requiring actual climate data gathered from a weather station within the proposed expansion area.

Comparison of the Proposed Fair Play AVA Expansion Area to the Existing El Dorado and Sierra Foothills AVAs

El Dorado AVA

The El Dorado AVA was established by T.D. ATF-152, which was published in the Federal Register on October 13, 1983 (48 FR 46520). The El Dorado AVA is located on the western slopes of the Sierra Nevada Mountains and has a generally mountainous topography with elevations between approximately 1,200 and 3,500 feet. Rainfall amounts are between 33 and 45 inches annually. The soils vary in depth and are generally formed from volcanic material.

The proposed Fair Play AVA expansion area has a climate and topography similar to the El Dorado AVA, with rolling hills and mountains and annual rainfall amounts and elevations that fall within the ranges of the larger AVA. However, the proposed expansion area bears a greater similarity to the established Fair Play AVA than to the larger El Dorado AVA. Because of their smaller sizes, both the proposed expansion area and the Fair Play AVA have a smaller range of elevations than the larger AVA. The smaller range of elevations also results in a smaller range of annual rainfall amounts within the proposed expansion area and the Fair Play AVA than within the larger AVA.

The soils of the proposed expansion area also bear a greater similarity to the soils of the Fair Play AVA than to those of the El Dorado AVA. As stated, the soils of the Fair Play AVA are of the Holland, Shaver, and Musick series and are described as deep, well-drained soils comprised mainly of granite. T.D. ATF-440 notes that the boundaries of the Fair Play AVA were specifically drawn to exclude shallow, poorly drained, non-granitic soils. However, the recent USDA soil survey report provided in the petition shows that the Holland, Shaver, and Musick series soils extend farther to the northeast than previously believed and are found also within the proposed expansion area. By contrast, the soils of the El Dorado AVA are described in T.D. ATF-152 as being comprised of river gravel and non-granitic volcanic debris and as having depths that vary from shallow to deep. The soil survey report confirms that volcanic soils, primarily of the Chawanakee and Chaix series, are found in greater concentrations in the region of the El Dorado AVA immediately adjacent to the boundaries of both the established Fair Play AVA and the proposed expansion area.

Sierra Foothills AVA

The Sierra Foothills AVA was established by T.D. ATF-261, which was published in the Federal Register on November 18, 1987 (52 FR 44105). The Sierra Foothills AVA is approximately 160 miles long and covers portions of 7 California counties in the foothills of the Sierra Nevada Mountains. The topography of the region ranges from gently rolling hills to progressively steeper slopes and canyons. T.D. ATF-261 describes the Sierra Foothills AVA as having lower temperatures and greater rainfall amounts than the lower elevations of the Central Valley to the west, and as having higher temperatures and lower rainfall amounts than the higher, more mountainous uplands of the Sierra Nevada Mountains to the east. Although specific soil and climate data were not included in T.D. ATF-261, the notice of proposed rulemaking for the Sierra Foothills AVA (Notice No. 632, 52 FR 19531, May 26, 1987) states that vineyards within the AVA are planted at elevations between 500 and 3,000 feet. Notice No. 632 also states that the growing season ranges from 100 to 300 days, depending on the elevation.

Both the proposed expansion area and the Fair Play AVA share some similar characteristics of the larger Sierra Foothills AVA. The proposed expansion area and the Fair Play AVA both contain rolling hills that become progressively steeper. However, the range of elevations within the proposed expansion area is not as great as the range within the Sierra Foothills AVA and is more similar to the range of elevations within the Fair Play AVA.

The climate within the proposed expansion area also shares some characteristics with the larger Sierra Foothills AVA. As previously discussed, rainfall amounts increase with elevation and temperatures decrease with elevation within the Sierra Nevada Mountains and foothills. Therefore, because the proposed expansion area is located within the foothills of the Sierra Nevada, one could expect the proposed expansion area to have more rain than the Central Valley and less rainfall than the higher uplands of the Sierra Nevada Mountains. However, because the proposed expansion area covers a smaller area with a smaller range of elevations, one would expect its range of annual rainfall amounts to be more similar to the Fair Play AVA, which shares a similar range of elevations with the proposed expansion area.

Finally, the proposed expansion area has a growing season of between 230 and 250 days, which is within the range of the Sierra Foothills AVA. However, the length of the growing season within the Sierra Foothills AVA can vary by as much as 200 days, depending on elevation. By contrast, the average length of the growing season within both the Fair Play AVA and the proposed expansion area varies only by about 20 days, due to the smaller range of elevations within both the Fair Play AVA and the proposed expansion area.

Technical Corrections to Boundary Description

TTB has noted an error in the current boundary instructions for the Fair Play AVA, specifically, in paragraph (c) of § 9.168. Consequently, in paragraphs (c)(12) and (13), TTB is clarifying that, from the South Fork of the Cosumnes River, the Fair Play AVA's western boundary proceeds north along the western boundary of section 14, T8N/R11E, as currently described, but then continues north along the western boundary lines of sections 11 and 2 in T8N/R11E, and then along the western boundary lines of sections 35 and 26 in T9N/R11E in order to return to the boundary's beginning point at the section line's intersection with the Middle Fork of the Cosumnes River. This clarification would not change the location of the Fair Play AVA's existing western boundary.

TTB also has noted the need to correct two typographical errors in the AVA's current boundary description. In paragraph (c)(4) of § 9.168, the reference to the 2,200-foot contour line incorrectly uses a double quote mark as an abbreviation for “feet,” and the paragraph incorrectly ends with a period. To correct these typographical errors and to match the style used elsewhere in § 9.168(c), TTB is changing the elevation reference to read “the 2200-foot contour line” and ending the paragraph with a semi-colon. These corrections are merely stylistic and would not change the location of the Fair Play AVA's existing boundary, as described in paragraph (c)(4).

TTB Determination

TTB concludes that the petition to expand the boundaries of the established Fair Play AVA merits consideration and public comment, as invited in this notice of proposed rulemaking.

Boundary Description

See the narrative boundary description of the petitioned-for expansion area in the proposed regulatory text published at the end of this proposed rule.

Maps

To document the existing and proposed boundaries of the Fair Play AVA, the petitioner provided copies of the three currently-required USGS maps (the Aukum, Camino, and Omo Ranch quadrangle maps) and a copy of the additional Sly Park quadrangle map. The four maps are listed below in the proposed regulatory text.

Impact on Current Wine Labels

For a wine to be labeled with a viticultural area name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name or other viticulturally significant term that was used as a brand name on a label approved before July 7, 1986. See 27 CFR 4.39(i)(2) for details.

The approval of the proposed expansion of the Fair Play AVA would not affect any other existing viticultural area, and any bottlers using “El Dorado” or “Sierra Foothills” as an appellation of origin or in a brand name for wines made from grapes grown within the El Dorado or Sierra Foothills viticultural areas would not be affected if the proposed expansion is approved. The expansion of the Fair Play AVA would allow vintners to use “Fair Play,” “El Dorado,” and “Sierra Foothills” as appellations of origin for wines made primarily from grapes grown within the proposed expansion area if the wines meet the eligibility requirements for the appellation.

Public Participation

Comments Invited

TTB invites comments from interested members of the public on whether it should expand the Fair Play AVA as proposed. TTB is specifically interested in receiving comments on the similarity of the proposed expansion area to the established Fair Play AVA. In addition, TTB is interested in comments on whether the name evidence provided in the petition demonstrates that the proposed expansion area is known by the “Fair Play” name. Finally, given the location of the proposed expansion area and the Fair Play AVA within the existing El Dorado and Sierra Foothills viticultural areas, TTB is interested in comments on whether the evidence submitted in the petition regarding the distinguishing features of the proposed expansion area sufficiently differentiates it from the existing El Dorado and Sierra Foothills viticultural areas. Please provide specific information in support of your comments.

Submitting Comments

You may submit comments on this notice of proposed rulemaking by using one of the following three methods:

• Federal e-Rulemaking Portal: You may send comments via the online comment form posted with this notice within Docket No. TTB-2014-0005 on “Regulations.gov,” the Federal e-rulemaking portal, at http://www.regulations.gov. A direct link to that docket is available under Notice No. 143 on the TTB Web site at http://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200-E, Washington, DC 20005.

Please submit your comments by the closing date shown above in this notice. Your comments must reference Notice No. 143 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2014-0005 on the Federal e-rulemaking portal, Regulations.gov, at http://www.regulations.gov. A direct link to that docket is available on the TTB Web site at http://www.ttb.gov/wine/wine_rulemaking.shtml. under Notice No. 143. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this notice of proposed rulemaking, all related petitions, maps and other supporting materials, and any electronic or mailed comments that TTB receives about this proposal by appointment at the TTB Information Resource Center, 1310 G Street NW., Washington, DC 20005. You may also obtain copies at 20 cents per 8.5- × 11-inch page. Please note that TTB is unable to provide copies of USGS maps or other similarly-sized documents that may be included as part of the AVA petition. Contact TTB's information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of an AVA name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Section 9.168 is amended by revising paragraphs (b), (c)(4) through (7), (c)(12), and (c)(13) to read as follows:

§ 9.168 Fair Play.

* * * * *

(b) Approved maps. The four United States Geological Survey (USGS) 1:24,000 scale topographic maps used to determine the boundary of the Fair Play viticultural area are titled:

(1) Aukum, Calif., 1952 (photorevised 1973);

(2) Camino, CA, 1952 (photorevised 1973);

(3) Sly Park, CA, 1952 (photorevised 1973); and

(4) Omo Ranch, Calif., 1952 (photorevised 1973).

(c) * * *

(4) The boundary continues east along Grizzly Flat Road to its intersection with the 2200-foot contour line (“Camino Quadrangle”);

(5) The boundary continues northeasterly and then easterly along the 2200-foot contour line until the contour line intersects with Jackass Canyon Creek near the eastern boundary of Section 10, T. 9 N., R. 12. E., on the “Camino Quadrangle” map;

(6) The boundary then proceeds southeast along Jackass Canyon Creek, crossing over the southwestern corner of the “Sly Park” Quadrangle map and onto the “Omo Ranch” Quadrangle map, to the headwaters of the creek, then proceeds in a straight line southeast to Grizzly Flat Road in Section 24, T. 9 N., R. 12 E.;

(7) The boundary continues east along Grizzly Flat Road until the road intersects with the range line between R. 12 E. and R. 13 E. (“Omo Ranch Quadrangle”);

* * * * *

(12) The boundary continues west along the South Fork of the Cosumnes River to its intersection with the western boundary of Section 14, T. 8 N., R 11 E. (“Aukum Quadrangle”);

(13) The boundary then proceeds north along the western boundary lines of Sections 14, 11, and 2, T. 8 N., R 11 E., and then the western boundary lines of Sections 35 and 26, T. 9 N., R 11 E., to return to the beginning point (“Aukum Quadrangle”).

Dated: June 5, 2014.
John J. Manfreda,
Administrator.

[FR Doc. 2014-14055 Filed 6-16-14; 8:45 am]

BILLING CODE 4810-31-P